DEPARTMENT OF ENERGY

Federal Energy Regulatory Commission

Combined Notice of Filings #1

Take notice that the Commission received the following electric corporate filings:

Docket Numbers: EC22-12-000.

Applicants: Calhoun Power Company, LLC, Alabama Power Company.

Description: Joint Application for Authorization Under Section 203 of the Federal Power Act of Calhoun Power Company, LLC, et al.

Filed Date: 10/29/21.

Accession Number: 20211029-5156.

Comment Date: 5 p.m. ET 11/19/21.

Take notice that the Commission received the following electric rate filings:

Docket Numbers: ER20-1828-002.

Applicants: PacifiCorp.

Description: Compliance filing: OATT Order 864 Compliance Filing—Second Deficiency Response to be effective N/A.

Filed Date: 10/29/21.

Accession Number: 20211029-5177.

Comment Date: 5 p.m. ET 11/19/21.

Docket Numbers: ER21-1875-002.

Applicants: Arizona Public Service Company.

Description: Tariff Amendment: Response to Deficiency Letter to be effective 7/10/2021.

Filed Date: 10/29/21.

Accession Number: 20211029-5002.

Comment Date: 5 p.m. ET 11/19/21.

Docket Numbers: ER21-2600-001.

Applicants: Southwest Power Pool, Inc.

Description: Tariff Amendment: Deficiency Response in ER21-2600—L and O Power Cooperative Formula Rate to be effective 12/1/2021.

Filed Date: 10/29/21.

Accession Number: 20211029-5217.

Comment Date: 5 p.m. ET 11/19/21.

Docket Numbers: ER21-2931-001.

Applicants: Midcontinent Independent System Operator, Inc.

Description: Tariff Amendment: 2021-10-29_SA 3170 Crossett Solar—EAI Substitute 1st Rev GIA (J680) to be effective 9/7/2021.

Filed Date: 10/29/21.

Accession Number: 20211029-5068.

Comment Date: 5 p.m. ET 11/19/21.

Docket Numbers: ER22-40-001.

Applicants: PSEG Power New York Inc.

Description: Tariff Amendment: Supplement to Application for Market-Based Rate Authorization to be effective 12/3/2021.

Filed Date: 10/29/21.

Accession Number: 20211029-5122.

Comment Date: 5 p.m. ET 11/19/21.

Docket Numbers: ER22-123-001.

Applicants: Hecate Energy Highland LLC.

Description: Tariff Amendment: Supplement to Application for Market-Based Rate Authorization to be effective 10/16/2021.

Filed Date: 10/29/21.

Accession Number: 20211029-5077.

Comment Date: 5 p.m. ET 11/19/21.

Docket Numbers: ER22-244-000; TS22-1-000.

Applicants: Caddo Wind, LLC, Caddo Wind, LLC.

Description: Request for Temporary Tariff Waiver, et al. of Caddo Wind, LLC.

Filed Date: 10/28/21.

Accession Number: 20211028-5155.

Comment Date: 5 p.m. ET 11/18/21.

Docket Numbers: ER22-246-000.

Applicants: New England Power Company, ISO New England Inc.

Description: § 205(d) Rate Filing: New England Power Company submits tariff filing per 35.13(a)(2)(iii): NEP; Updates to Depreciation Rates Under Appendix D to Attachment F to be effective 1/1/2022.

Filed Date: 10/29/21.

Accession Number: 20211029-5027.

Comment Date: 5 p.m. ET 11/19/21.

Docket Numbers: ER22-247-000.

Applicants: Midcontinent Independent System Operator, Inc., Great River Energy.

Description: § 205(d) Rate Filing: Midcontinent Independent System Operator, Inc. submits tariff filing per 35.13(a)(2)(iii): 2021-10-29_SA 3724 GRE-Nexus Line TIA (CS Line) to be effective 12/31/9998.

Filed Date: 10/29/21.

Accession Number: 20211029-5049.

Comment Date: 5 p.m. ET 11/19/21.

Docket Numbers: ER22-248-000.

Applicants: New England Power Company.

Description: § 205(d) Rate Filing: 2021-10-29 Amendment to Att. 4 of TSA-NEP-22 re Updated Depreciation Rates to be effective 1/1/2022.

Filed Date: 10/29/21.

Accession Number: 20211029-5051.

Comment Date: 5 p.m. ET 11/19/21.

Docket Numbers: ER22-249-000.

Applicants: Midcontinent Independent System Operator, Inc., Great River Energy.

Description: § 205(d) Rate Filing: Midcontinent Independent System Operator, Inc. submits tariff filing per 35.13(a)(2)(iii): 2021-10-29_SA 3725 GRE-Nexus Line TIA (SVT Line) to be effective 12/31/9998.

Filed Date: 10/29/21.

Accession Number: 20211029-5053.

Comment Date: 5 p.m. ET 11/19/21.

Docket Numbers: ER22-250-000.

Applicants: Midcontinent Independent System Operator, Inc., Otter Tail Power Company.

Description: § 205(d) Rate Filing: Midcontinent Independent System Operator, Inc. submits tariff filing per 35.13(a)(2)(iii): 2021-10-29_SA 3726 OTP-Nexus Line TIA (Underwood 230 kV)) to be effective 12/31/9998.

Filed Date: 10/29/21.

Accession Number: 20211029-5059.

Comment Date: 5 p.m. ET 11/19/21.

Docket Numbers: ER22-251-000.

Applicants: Southwest Power Pool, Inc.

Description: § 205(d) Rate Filing: 607R41 Evergy Kansas Central, Inc. NITSA NOA to be effective 10/1/2021.

Filed Date: 10/29/21.

Accession Number: 20211029-5070.

Comment Date: 5 p.m. ET 11/19/21.

Docket Numbers: ER22-252-000.

Applicants: Midcontinent Independent System Operator, Inc., Ameren Illinois Company.

Description: § 205(d) Rate Filing: Midcontinent Independent System Operator, Inc. submits tariff filing per 35.13(a)(2)(iii): 2021-10-29_SA 2880 Att A-Proj Spec No. 7 WVPA-MJM-Butler to be effective 12/29/2021.

Filed Date: 10/29/21.

Accession Number: 20211029-5073.

Comment Date: 5 p.m. ET 11/19/21.

Docket Numbers: ER22-253-000.

Applicants: Southwest Power Pool, Inc.

Description: § 205(d) Rate Filing: Revisions to Modify Generator Interconnection Procedures to Mitigate Backlog to be effective 1/15/2022.

Filed Date: 10/29/21.

Accession Number: 20211029-5085.

Comment Date: 5 p.m. ET 11/19/21.

Docket Numbers: ER22-254-000.

Applicants: PJM Interconnection, L.L.C

Description: § 205(d) Rate Filing: Amendment to ISA, SA No. 3831; Queue No. Z1-072 to be effective 6/14/2016.

Filed Date: 10/29/21.

Accession Number: 20211029-5091.

Comment Date: 5 p.m. ET 11/19/21.

Docket Numbers: ER22-255-000.

Applicants: Southwest Power Pool, Inc.

Description: § 205(d) Rate Filing: 2236R15 Golden Spread Electric Cooperative, Inc. NITSA NOA to be effective 10/1/2021.

Filed Date: 10/29/21.

Accession Number: 20211029-5111.

Comment Date: 5 p.m. ET 11/19/21.

Docket Numbers: ER22-256-000.

Applicants: PJM Interconnection, L.L.C.

Description: § 205(d) Rate Filing: Interim ISA, Service Agreement No. 6216; Queue No. AF1-215 to be effective 9/30/2021.

Filed Date: 10/29/21.

Accession Number: 20211029-5119.

Comment Date: 5 p.m. ET 11/19/21.

Docket Numbers: ER22-257-000.

Applicants: Pacific Gas and Electric Company.

Description: § 205(d) Rate Filing: Q3 2021 Quarterly Filing of City and County of San Francisco's WDT SA (SA 275) to be effective 9/30/2021.

Filed Date: 10/29/21.

Accession Number: 20211029-5135.

Comment Date: 5 p.m. ET 11/19/21.

Docket Numbers: ER22-258-000.

Applicants: San Diego Gas & Electric Company.

Description: § 205(d) Rate Filing: 2022 TRBAA Update to be effective 1/1/2022.

Filed Date: 10/29/21.

Accession Number: 20211029-5149.

Comment Date: 5 p.m. ET 11/19/21.

Docket Numbers: ER22-259-000.

Applicants: PPL Electric Utilities Corporation, PJM Interconnection, L.L.C.

Description: Tariff Amendment: PPL Electric Utilities Corporation submits tariff filing per 35.15: PPL submits Notice of Cancellation of SA 5419, ESCA between PPL and MAIT to be effective 10/30/2021.

Filed Date: 10/29/21.

Accession Number: 20211029-5150.

Comment Date: 5 p.m. ET 11/19/21.

Docket Numbers: ER22-260-000.

Applicants: Duke Energy Carolinas, LLC.

Description: Tariff Amendment: DEC—Notice of Cancellation of Rate Schedule No. 338 to be effective 1/1/2022.

Filed Date: 10/29/21.

Accession Number: 20211029-5186.

Comment Date: 5 p.m. ET 11/19/21.

Docket Numbers: ER22-261-000.

Applicants: Tri-State Generation and Transmission Association, Inc.

Description: § 205(d) Rate Filing: Amendment to Rate Schedule No. 331 to be effective 12/28/2021.

Filed Date: 10/29/21.

Accession Number: 20211029-5187.

Comment Date: 5 p.m. ET 11/19/21.

Docket Numbers: ER22-262-000.

Applicants: Nevada Power Company.

Description: Tariff Amendment: Notice of Cancellation of Cert of Concurrence WestConnect to be effective 1/1/2022.

Filed Date: 10/29/21.

Accession Number: 20211029-5199.

Comment Date: 5 p.m. ET 11/19/21.

Docket Numbers: ER22-263-000.

Applicants: Wisconsin Power and Light Company.

Description: § 205(d) Rate Filing: WPL Adjustment of Formula Rates for Retail Service to be effective 12/31/2021.

Filed Date: 10/29/21.

Accession Number: 20211029-5203.

Comment Date: 5 p.m. ET 11/19/21.

Docket Numbers: ER22-264-000.

Applicants: Puget Sound Energy, Inc.

Description: § 205(d) Rate Filing: NorthernGrid Attachment K Amendment to be effective 1/1/2022.

Filed Date: 10/29/21.

Accession Number: 20211029-5204.

Comment Date: 5 p.m. ET 11/19/21.

Docket Numbers: ER22-265-000.

Applicants: Puget Sound Energy, Inc.

Description: Tariff Amendment: Notice of Cancellation Rate Schedule 941 to be effective 12/31/2021.

Filed Date: 10/29/21.

Accession Number: 20211029-5205.

Comment Date: 5 p.m. ET 11/19/21.

Docket Numbers: ER22-266-000.

Applicants: Northern States Power Company, a Minnesota corporation.

Description: § 205(d) Rate Filing: 2021-10-29 NSP-CHAK-Non-Conforming SISA-694-0.0.0 to be effective 10/30/2021.

Filed Date: 10/29/21.

Accession Number: 20211029-5206.

Comment Date: 5 p.m. ET 11/19/21.

Docket Numbers: ER22-267-000.

Applicants: Puget Sound Energy, Inc.

Description: § 205(d) Rate Filing: Certificate of Concurrence to NorthernGrid Funding Agreement to be effective 1/1/2022.

Filed Date: 10/29/21.

Accession Number: 20211029-5207.

Comment Date: 5 p.m. ET 11/19/21.

Docket Numbers: ER22-268-000.

Applicants: Northern Indiana Public Service Company LLC.

Description: § 205(d) Rate Filing: Filing of a CIAC Agreement to be effective 11/1/2021.

Filed Date: 10/29/21.

Accession Number: 20211029-5209.

Comment Date: 5 p.m. ET 11/19/21.

Docket Numbers: ER22-269-000.

Applicants: Midcontinent Independent System Operator, Inc., Michigan Electric Transmission Company, LLC.

Description: § 205(d) Rate Filing: Midcontinent Independent System Operator, Inc. submits tariff filing per 35.13(a)(2)(iii): 2021-10-29_SA 3735 METC-Jackson County Solar E&P (J1310) to be effective 10/28/2021.

Filed Date: 10/29/21.

Accession Number: 20211029-5226.

Comment Date: 5 p.m. ET 11/19/21.

Take notice that the Commission received the following PURPA 210(m)(3) filings:

Docket Numbers: QM22-5-000.

Applicants: East Kentucky Power Cooperative, Inc.

Description: Application of East Kentucky Power Cooperative, Inc. to Terminate Its Mandatory Purchase Obligation under the Public Utility Regulatory Policies Act of 1978.

Filed Date: 10/29/21.

Accession Number: 20211029-5152.

Comment Date: 5 p.m. ET 11/26/21.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2021.
Debbie-Anne A. Reese,
Deputy Secretary.

[FR Doc. 2021-24110 Filed 11-3-21; 8:45 am]

BILLING CODE 6717-01-P